DEPARTMENT OF TRANSPORTATION

Federal Aviation Administration

14 CFR Part 39

[Docket No. FAA-2016-9384; Directorate Identifier 2016-NM-154-AD; Amendment 39-18944; AD 2017-13-14]

RIN 2120-AA64

Airworthiness Directives; The Boeing Company Airplanes

AGENCY: Federal Aviation Administration (FAA), DOT.

ACTION: Final rule.

SUMMARY: We are adopting a new airworthiness directive (AD) for certain The Boeing Company Model 777-300ER series airplanes. This AD was prompted by a report that certain galley tripod mount assemblies were not connected to the tie rods in the overhead support structure. This AD requires an inspection of certain galleys for the presence of the hardware that connects the tripod mount assembly to the tie rods in the overhead support structure, and corrective actions if necessary. We are issuing this AD to address the unsafe condition on these products.

DATES: This AD is effective August 9, 2017.

The Director of the Federal Register approved the incorporation by reference of a certain publication listed in this AD as of August 9, 2017.

ADDRESSES: For service information identified in this final rule, contact Boeing Commercial Airplanes, Attention: Contractual & Data Services (C&DS), 2600 Westminster Blvd., MC 110-SK57, Seal Beach, CA 90740; telephone 562-797-1717; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2016-9384.

Examining the AD Docket

You may examine the AD docket on the Internet at http://www.regulations.gov by searching for and locating Docket No. FAA-2016-9384; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Allison Buss, Aerospace Engineer, Cabin Safety and Environmental Systems Branch, ANM-150S, FAA, Seattle Aircraft Certification Office (ACO), 1601 Lind Avenue SW., Renton, WA 98057-3356; phone: 425-917-6495; fax: 425-917-6590; email: allison.buss@faa.gov.

SUPPLEMENTARY INFORMATION:

Discussion

We issued a notice of proposed rulemaking (NPRM) to amend 14 CFR part 39 by adding an AD that would apply to certain The Boeing Company Model 777-300ER series airplanes. The NPRM published in the Federal Register on November 17, 2016 (81 FR 81021) (“the NPRM”). The NPRM was prompted by a report that the T53 and T52 tie rods to the tripod mount assembly in the A2 and A3 galleys were found unattached during a routine production inspection of certain airplanes before delivery. The NPRM proposed to require an inspection of A2 and A3 galleys for the presence of the hardware that connects the tripod mount assembly to the tie rods in the overhead support structure, and corrective actions if necessary. We are issuing this AD to detect and correct an unconnected galley tripod mount assembly to the tie rods in the overhead support structure, which can cause a galley to come loose under a high dynamic load, causing a risk of serious injury to passengers and the blocking of evacuation routes.

Comments

We gave the public the opportunity to participate in developing this AD. The following presents the comments received on the NPRM and the FAA's response to each comment.

Request To Clarify the Inspection Type

Boeing, Air New-Zealand (ANZ), and American Airlines (AA) requested that we clarify whether the required inspection type is general visual or detailed. The commenters noted that Boeing Alert Service Bulletin 777-25A0677, dated April 25, 2016, requires a general visual inspection, while the proposed AD would require a detailed inspection. ANZ inquired whether the detailed inspection was an additional requirement or a terminology correction. Boeing requested that we remove the detailed inspection description in paragraph (h) of the proposed AD and replace it with a description of a general visual inspection.

We agree to clarify the inspection type required by this AD. A general visual inspection is intended to detect obvious irregularities; in this case, the irregularity to be detected—a missing pin or bolt assembly that connects the tripod mount assembly to the applicable tie rod—may not be obvious. A detailed inspection is therefore most appropriate for this situation. We have not changed this AD in this regard.

Request To Allow an Alternative Part

AA requested that the proposed AD allow the use of a specific alternative washer. AA provided no justification for this request.

We infer that AA considers the use of alternative parts prohibited. To clarify, substitutions are allowed under paragraph 3.A., Note 4., of the Accomplishment Instructions of Boeing Alert Service Bulletin 777-25A0677, dated April 25, 2016. Therefore, we have not changed this AD in this regard.

Request To Add a Corrective Action

AA requested that Boeing update Boeing Alert Service Bulletin 777-25A0677, dated April 25, 2016, to add a corrective action if the hardware is missing. AA stated that the service information specifies to confirm the presence or absence of hardware, but gives no corrective action if the hardware is missing.

We do not control service bulletin changes, and we also disagree with AA's characterization of the required actions. The service information specifies inspecting to “make sure the hardware (i.e., pin assembly or bolt assembly) that connects the tripod mount assembly to the T53 tie rod is installed.” While investigating this issue, Boeing found that the hardware was present, but not installed. Boeing has confirmed that the service information does not need to include corrective actions to address missing hardware. The hardware should be present. If it is not, operators should install the correct hardware. We have not changed this AD in this regard.

Conclusion

We reviewed the relevant data, considered the comments received, and determined that air safety and the public interest require adopting this AD as proposed, except for minor editorial changes. We have determined that these minor changes:

• Are consistent with the intent that was proposed in the NPRM for correcting the unsafe condition; and

• Do not add any additional burden upon the public than was already proposed in the NPRM.

Related Service Information Under 1 CFR Part 51

We reviewed Boeing Alert Service Bulletin 777-25A0677, dated April 25, 2016. The service information describes procedures for doing an inspection of the area above the A2 and A3 galleys to make sure the hardware (i.e., pin assembly or bolt assembly) that connects the tripod mount assembly to the applicable T53 and T52 tie rods is installed, and corrective actions. This service information is reasonably available because the interested parties have access to it through their normal course of business or by the means identified in the ADDRESSES section.

Costs of Compliance

We estimate that this AD affects 4 airplanes of U.S. registry. We estimate the following costs to comply with this AD:

Estimated Costs
Action | Labor cost | Parts cost | Cost per product | Cost on U.S. operators
Inspection | 1 work-hour × $85 per hour = $85 | $0 | $85 | $340

We have received no definitive data that would enable us to provide cost estimates for the on-condition actions specified in this AD.

According to the manufacturer, some of the costs of this AD may be covered under warranty, thereby reducing the cost impact on affected individuals. We do not control warranty coverage for affected individuals. As a result, we have included all available costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-13-14 The Boeing Company: Amendment 39-18944; Docket No. FAA-2016-9384; Directorate Identifier 2016-NM-154-AD.

(a) Effective Date

This AD is effective August 9, 2017.

(b) Affected ADs

None.

(c) Applicability

This AD applies to The Boeing Company Model 777-300ER series airplanes, certificated in any category, as identified in Boeing Alert Service Bulletin 777-25A0677, dated April 25, 2016.

(d) Subject

Air Transport Association (ATA) of America Code 25, Equipment/furnishings.

(e) Unsafe Condition

This AD was prompted by a report that certain galley tripod mount assemblies were not attached to the tie rods in the overhead support structure. We are issuing this AD to detect and correct an unconnected galley tripod mount assembly to the tie rods in the overhead support structure, which can cause a galley to come loose under a high dynamic load, causing a risk of serious injury to passengers and the blocking of evacuation routes.

(f) Compliance

Comply with this AD within the compliance times specified, unless already done.

(g) Inspection and Corrective Actions

Within 12 months after the effective date of this AD: Do a detailed inspection of the area above the A2 and A3 galleys to make sure the hardware (i.e., pin assembly or bolt assembly) that connects the tripod mount assembly to the applicable T53 and T52 tie rods is installed, and do all applicable corrective actions, in accordance with the Accomplishment Instructions of Boeing Alert Service Bulletin 777-25A0677, dated April 25, 2016. Do all applicable corrective actions before further flight.

(h) Definition of Detailed Inspection

For the purposes of this AD, a detailed inspection is an intensive examination of a specific item, installation, or assembly to detect damage, failure, or irregularity. Available lighting is normally supplemented with a direct source of good lighting at an intensity deemed appropriate. Inspection aids such as mirror, magnifying lenses, etc., may be necessary. Surface cleaning and elaborate procedures may be required.

(i) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (j) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) For service information that contains steps that are labeled as Required for Compliance (RC), the provisions of paragraphs (i)(4)(i) and (i)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

For more information about this AD, contact Allison Buss, Aerospace Engineer, Cabin Safety and Environmental Systems Branch, ANM-150S, FAA, Seattle ACO, 1601 Lind Avenue SW., Renton, WA 98057-3356; phone: 425-917-6495; fax: 425-917-6590; email: allison.buss@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 777-25A0677, dated April 25, 2016.

(ii) Reserved.

(3) For service information identified in this AD, contact Boeing Commercial Airplanes, Attention: Contractual & Data Services (C&DS), 2600 Westminster Blvd., MC 110-SK57, Seal Beach, CA 90740; telephone 562-797-1717; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 22, 2017.
John P. Piccola, Jr.,
Acting Manager, Transport Airplane Directorate, Aircraft Certification Service.

[FR Doc. 2017-13757 Filed 7-3-17; 8:45 am]

BILLING CODE 4910-13-P